DEPARTMENT OF EDUCATION

Applications for New Awards; Equity Assistance Centers

AGENCY: Office of Elementary and Secondary Education, Department of Education

ACTION: Notice.

SUMMARY: The Department of Education is issuing a notice inviting applications for fiscal year (FY) 2022 for the Equity Assistance Centers, Assistance Listing Number 84.004D. This notice relates to the approved information collection under OMB control number 1894-0006.

DATES:

Applications Available: February 15, 2022.

Deadline for Transmittal of Applications: May 16, 2022.

Deadline for Intergovernmental Review: July 15, 2022.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Rebekka Meyer, U.S. Department of Education, 400 Maryland Avenue SW, Room 3E114, Washington, DC 20202. Telephone: (202) 453-5641. Email: OESE.EACcompetition@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Equity Assistance Centers (EAC) program is authorized under title IV of the Civil Rights Act of 1964, 42 U.S.C. 2000c—2000c-2, 2000c-5, and the implementing regulations in 34 CFR part 270. This program awards grants through cooperative agreements “to operate regional EACs that provide technical assistance (including training) at the request of school boards and other responsible governmental agencies in the preparation, adoption, and implementation of plans for the desegregation of public schools”—which in this context means plans for equity (including desegregation based on race, national origin, sex, and religion)—“and in the development of effective methods of coping with special educational problems occasioned by desegregation”(34 CFR 270.1).

Background: 42 U.S.C. 2000c SEC. 403 establishes the EAC program to provide technical assistance at the request of eligible entities with regard to “special educational problems occasioned by desegregation.” This term is defined in 34 CFR 270.7 to mean “those issues that arise in classrooms, schools, and communities in the course of desegregation efforts based on race, national origin, sex, or religion.” 34 CFR 270 additionally creates the term “Desegregation assistance”, defined as “the provision of technical assistance (including training) in the areas of race, sex, national origin, and religion desegregation of public elementary and secondary schools” to describe the technical assistance services provided under this program. Desegregation assistance, per 34 CFR 270.4, “may include, among other activities: (1) Dissemination of information regarding effective methods of coping with special educational problems occasioned by desegregation; (2) assistance and advice in coping with these problems; and (3) training designed to improve the ability of teachers, supervisors, counselors, parents, community members, community organizations, and other elementary or secondary school personnel to deal effectively with special educational problems occasioned by desegregation.” A project must provide technical assistance in all four of the desegregation assistance areas: Race, sex, national origin, and religion desegregation (34 CFR 270.4). For example, EACs provide critical support to public schools, upon request by school boards and other responsible governmental entities in their geographic region, in developing effective strategies to ensure all students have a full opportunity to participate in educational programs. This may include assisting schools in fostering positive and safe learning environments that meet all students' needs, and that are free of bullying and violence related to race, color, national origin, sex, or religion. When requested, EACs may provide technical assistance only to students enrolled in public schools, parents of those students, public school personnel, community organizations, and other community members (34 CFR 270.3).

Previously known as the Desegregation Assistance Centers program, the EAC program is authorized under the Civil Rights Act of 1964 and has provided comprehensive training and advisory services on desegregation issues to States, school districts, and schools since the mid-1960s. Through the grants funded through this notice, the EAC program will continue to advance the Department's priorities to promote equity in student access to educational resources and opportunities.

In 2016, the Department reduced the number of EAC geographic regions from ten to four. The four EACs have experienced a steady increase in demand for services each year since this reorganization. In FY 2017, EACs provided targeted and intensive assistance to 20 State educational agencies (SEAs) and 48 local educational agencies (LEAs) in 33 States and territories. In FY 2020, EACs provided targeted and intensive assistance to 36 SEAs and 196 LEAs in 49 States and territories. This growth may be attributable to several factors, including increased awareness of the EAC services among potential clients (e.g., SEAs, LEAs), recent increases in public interest in issues related to discrimination, and desegregation-related issues caused or exacerbated by the COVID-19 pandemic and conditions necessitated by it (e.g., instances of online bullying related to race or ethnicity as a result of an increase in virtual instruction during the pandemic).

To ensure that new EAC grantees adequately respond to this increase in demand for services, applicants should have expert knowledge of Federal statutory requirements, regulations, and policies related to desegregating public schools by race, sex, national origin, and religion.

When addressing the selection criteria in the NIA, eligible applicants are encouraged to:

• Demonstrate their experience delivering technical assistance and training, informed by relevant data, that have resulted in documented improvements in creating more equitable learning environments for students;

• Demonstrate their proven ability to manage personnel, resources, and budgets to adequately respond to a high volume of technical assistance requests;

• Describe how they will consider the unique and diverse local and cultural needs of communities within their regions (e.g., taking into account differences in the racial, ethnic, or religious diversity of the student populations in rural communities, communities with newcomer families, communities with high instances of languages other than English spoken in the home, Tribal communities) and consider appropriate staffing and partnerships that can assist the EAC in meeting diverse regional needs; and

• Describe their comprehensive plans to expeditiously establish and maintain networks of professional partnerships to further their desegregation work. This should include working relationships with Department offices and grant programs (e.g., the Office for Civil Rights), other Federal agencies (e.g., the Department of Justice), Department-funded technical assistance providers (e.g., Comprehensive Centers, Regional Educational Laboratories), potential clients (e.g., SEAs, LEAs in their regions), and professional organizations that can improve the effectiveness of their desegregation efforts, particularly in the applicant's EAC region.

The Department recognizes that developing effective methods of coping with special educational problems occasioned by desegregation based on race, religion, national origin, and sex in public schools may also intersect with many other areas of important educational equity work, including socioeconomic status and disability, among others. Therefore, to improve the effectiveness of collaborative efforts across technical assistance providers to create more equitable learning environments responsive to a comprehensive range of student needs, the Department encourages applicants to include in their proposed plans for networks of professional partnerships approaches for collaboration with agencies and organizations that reflect the broader intersectional nature of educational equity work.

The EAC program awards four grants, one for each geographical region. Each geographical region is comprised of, on average, 14 States and Territories. Given the large geographic size of each region, the skill and technological capacity to provide effective remote technical assistance and training are critical to the success of each EAC grantee. The Department encourages each applicant to propose a comprehensive plan to efficiently deliver effective remote technical assistance and training to clients that comply with applicable legal requirements for accessibility, including those required under Section 504 of the Rehabilitation Act of 1973 and the Americans with Disabilities Act.

We encourage applicants to describe a project design for service delivery informed by research or evaluation findings that demonstrates a rationale (as defined in this notice), explaining how the project is likely to improve or achieve relevant and expected outcomes (e.g., via a logic model, as defined in this notice). In developing their rationales, applicants should consider research and evaluation findings regarding best practices for addressing desegregation based on sex, race, religion, and national origin. Applicants should also consider research and evaluation findings related to adult learning principles and strategies for their work when training school administrators, teachers, staff, and parents. Additionally, applicants should explain when addressing the project design selection criteria how they will examine the sources of inequities related to race, religion, national origin, and sex in public schools, and their intersection with many other areas of important educational equity work, including socioeconomic status and disability, among others. Finally, applicants should describe how the proposed training and advisory services it will provide, if requested, will utilize evidence-based (as the term is defined in 34 CFR 77.1) policies or strategies designed to increase racial, ethnic, cultural, socioeconomic, and linguistic diversity in educational settings (e.g., creating a safe and welcoming learning environment for new students who are refugees and English learners).

Each EAC applicant should propose, whenever practicable, to employ evidence-based practices that mitigate impacts of segregation based on sex, race, religion, and national origin in public schools. Relatedly, EAC applicants are encouraged to describe how they plan to contribute to the evidence base on such practices, in accordance with the definition of “evidence-based” in 34 CFR 77.1. Applicants may also consider how the proposed project may develop evidence related to, or provide technical assistance on, evidence-based policies or strategies designed to increase inclusivity with regard to racial, ethnic, cultural, and linguistic diversity in educational settings appropriate to the needs of the intended recipients or beneficiaries of those services. Accordingly, applicants should include as part of their applications a rigorous evaluation plan that describes their methods to identify and evaluate evidence-based practices and resources developed in response to client requests and the criteria for determining the extent to which outputs and client outcomes (short-term, midterm, and long-term) were met as a result of the technical assistance provided.

Applicants should describe their current or recent working relationships with governmental agencies legally responsible for operating public schools in the applicants' EAC regions. Shortly after awards are made, each grantee will be required to develop a communications plan for working with the appropriate education agencies within its region (e.g., SEAs, LEAs) to promote understanding about EAC services and to foster productive relationships with the agencies and the public at large. As part of this plan, each grantee must detail its strategies, including the use of technology-based resources, for receiving ongoing and timely input on the needs of its clients and potential clients, and the usefulness of its services. Each grantee must also describe how it will continuously cultivate relationships with agencies and partners that are knowledgeable about the desegregation-related needs in its EAC region.

Priority: Under this competition we are particularly interested in applications that address the following priority.

Invitational Priority: For FY 2022 and any subsequent year in which the Department makes awards from the list of unfunded applications from this competition, this priority is an invitational priority. Under 34 CFR 75.105(c)(1) the Department does not give an application that meets this invitational priority a competitive or absolute preference over other applications.

This priority is:

Promoting Equity Through Diverse Partnerships.

Projects designed to promote educational equity and adequacy in resources and opportunity for underserved students in elementary school, middle school, and high school settings and which are implemented by or in partnership with one or more of the following entities:

(a) Historically Black colleges and universities, defined as colleges and universities that meet the criteria in 34 CFR 608.2.

(b) Tribal colleges and universities, as defined in section 316(b)(3) of the Higher Education Act of 1965, as amended (HEA).

(c) Minority-serving institutions, defined as institutions that are eligible to receive assistance under sections 316 through 320 of part A of title III, under part B of title III, or under title V of the HEA.

Definitions: For the convenience of applicants, the Department highlights the following definitions for this competition. We include definitions of the following terms from the EAC program regulations in 34 CFR 270.7: “Desegregation assistance,” “Desegregation assistance areas,” “English learner,” “Equity Assistance Center,” “National origin desegregation,” “Public school,” “Race desegregation,” “Religion desegregation,” “Responsible governmental agency,” “School board,” “Sex desegregation,” and “Special educational problems occasioned by desegregation.” We also include the definitions of “demonstrates a rationale,” “logic model,” “project component,” and “relevant outcome” from 34 CFR 77.1.

Demonstrates a rationale means a key project component included in the project's logic model is informed by research or evaluation findings that suggest the project component is likely to improve relevant outcomes.

Desegregation assistance means the provision of technical assistance (including training) in the areas of race, sex, national origin, and religion desegregation of public elementary and secondary schools.

Desegregation assistance areas means the areas of race, sex, national origin, and religion desegregation.

English learner has the same meaning as the same term defined in section 8101(20) of the Elementary and Secondary Education Act, as amended.

Equity Assistance Center means a regional desegregation technical assistance and training center funded under this part.

Logic model (also referred to as a theory of action) means a framework that identifies key project components of the proposed project (i.e., the active “ingredients” that are hypothesized to be critical to achieving the relevant outcomes) and describes the theoretical and operational relationships among the key project components and relevant outcomes.

National origin desegregation means the assignment of students to public schools and within those schools without regard to their national origin, including providing students such as those who are English learners with a full opportunity for participation in all educational programs regardless of their national origin.

Project component means an activity, strategy, intervention, process, product, practice, or policy included in a project. Evidence may pertain to an individual project component or to a combination of project components (e.g., training teachers on instructional practices for English learners and follow-on coaching for these teachers).

Public school means any elementary or secondary educational institution operated by a State, subdivision of a State, or governmental agency within a State, or operated wholly or predominantly from or through the use of governmental funds or property, or funds or property derived from governmental sources.

Race desegregation means the assignment of students to public schools and within those schools without regard to their race, including providing students with a full opportunity for participation in all educational programs regardless of their race. “Race desegregation” does not mean the assignment of students to public schools to correct conditions of racial separation that are not the result of State or local law or official action.

Relevant outcome means the student outcome(s) or other outcome(s) the key project component is designed to improve, consistent with the specific goals of the program.

Religion desegregation means the assignment of students to public schools and within those schools without regard to their religion, including providing students with a full opportunity for participation in all educational programs regardless of their religion.

Responsible governmental agency means any school board, State, municipality, LEA, or other governmental unit legally responsible for operating a public school or schools.

School board means any agency or agencies that administer a system of one or more public schools and any other agency that is responsible for the assignment of students to or within that system.

Sex desegregation means the assignment of students to public schools and within those schools without regard to their sex (including transgender status; gender identity; sex stereotypes, such as treating a person differently because he or she does not conform to sex-role expectations because he or she is attracted to or is in a relationship with a person of the same sex; and pregnancy and related conditions), including providing students with a full opportunity for participation in all educational programs regardless of their sex.

Special educational problems occasioned by desegregation means those issues that arise in classrooms, schools, and communities in the course of desegregation efforts based on race, national origin, sex, or religion. The phrase does not refer to the provision of special education and related services for students with disabilities as defined under the Individuals with Disabilities Education Act (20 U.S.C. 1400 et seq.).

Program Authority: 42 U.S.C. 2000c-2000c-2, 2000c-5.

Applicable Regulations: (a) The Education Department General Administrative Regulations (EDGAR) in 34 CFR parts 75, 77, 79, 81, 82, 84, 86, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 270.

Note: The regulations in 34 CFR part 86 apply to institutions of higher education only.

II. Award Information

Type of Award: Cooperative agreement.

Estimated Available Funds: The Administration has requested $6,575,000 for this program for FY 2022, of which we intend to use an estimated $6,500,000 for awards under this competition. The actual level of funding, if any, depends on final congressional action. However, the Department is inviting applications to allow enough time to complete the grant process before the end of the current fiscal year, if Congress appropriates funds for this program.

Estimated Range of Awards: $1,400,000-$1,700,000.

Estimated Average Size of Awards: $1,625,000.

Maximum Award: The Department will not make an award exceeding $1,700,000 for a single budget period of 12 months. Under 34 CFR 75.104(b), the Secretary may reject without consideration or evaluation any application that proposes a project funding level that exceeds the stated maximum award amount.

Estimated Number of Awards: 4.

Note: The Department is not bound by any estimates in this notice.

Project Period: Up to 60 months.

III. Eligibility Information

1. Eligible Applicants: To be considered for an award under this competition, an applicant must be:

(a) A public agency (other than a State educational agency or a school board);

(b) A private, non-profit organization; or

(c) A consortium comprised entirely of agencies or organizations described in clauses (a) or (b).

Note: If applying as a consortium, applicants should refer to 34 CFR 75.127-75.129 for information about group applications.

If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

4. Geographical Regions: One EAC will be funded under this grant program in each of four geographical regions, in accordance with 34 CFR 270.5 and 270.20. One award will be made in each region to the highest-ranking proposal from that region. If an applicant wishes to apply to serve more than one region, the applicant must submit a separate application for each region it wishes to serve.

Note: The Department intends to create four separate funding slates, one for each geographic region. The Department anticipates funding a single EAC in each geographic region.

The geographic regions served by the EACs are:

Region I: Connecticut, Delaware, Kentucky, Maine, Maryland, Massachusetts, New Hampshire, New Jersey, New York, Pennsylvania, Puerto Rico, Rhode Island, Vermont, Virgin Islands, West Virginia.

Region II: Alabama, Arkansas, District of Columbia, Florida, Georgia, Louisiana, Mississippi, North Carolina, South Carolina, Tennessee, Texas, Virginia.

Region III: Illinois, Indiana, Iowa, Kansas, Michigan, Minnesota, Missouri, Nebraska, North Dakota, Ohio, Oklahoma, South Dakota, Wisconsin.

Region IV: Alaska, American Samoa, Arizona, California, Colorado, Commonwealth of the Northern Mariana Islands, Guam, Hawaii, Idaho, Montana, Nevada, New Mexico, Oregon, Utah, Washington, Wyoming.

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Submission of Proprietary Information: Given the types of projects that may be proposed in applications for the EAC program, your application may include business information that you consider proprietary. In 34 CFR 5.11 we define “business information” and describe the process we use in determining whether any of that information is proprietary and, thus, protected from disclosure under Exemption 4 of the Freedom of Information Act (5 U.S.C. 552, as amended).

Because the Department plans to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79.

4. Funding Restrictions: The Department references regulations outlining funding restrictions in the Applicable Regulations section of this notice.

5. Recommended Page Limit: The application narrative is where you, the applicant, address the selection criteria that reviewers use to evaluate your application. The Department recommends that you (1) limit the application narrative to no more than 50 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

V. Application Review Information

1. Selection Criteria: The selection criteria for this competition are from 34 CFR 75.210. The maximum score for addressing all of these criteria is 100 points. The maximum score for addressing each criterion is indicated in parentheses.

(a) Quality of the project design. (Up to 65 points)

(1) The Secretary considers the quality of the design of the proposed project.

(2) In determining the quality of the design of the proposed project, the Secretary considers the following factors:

(i) The extent to which the services to be provided by the proposed project are appropriate to the needs of the intended recipients or beneficiaries of those services. (Up to 15 points)

(ii) The extent to which the services to be provided by the proposed project involve the collaboration of appropriate partners for maximizing the effectiveness of project services. (Up to 10 points)

(iii) The extent to which the proposed project demonstrates a rationale (as defined in this notice). (Up to 10 points)

(iv) The extent to which the design of the proposed project includes a thorough, high-quality review of the relevant literature, a high-quality plan for project implementation, and the use of appropriate methodological tools to ensure successful achievement of project objectives. (Up to 10 points)

(v) The extent to which the methods of evaluation will provide performance feedback and permit periodic assessment of progress toward achieving intended outcomes. (Up to 10 points)

(vi) How the applicant will ensure that a diversity of perspectives are brought to bear in the operation of the proposed project, including those of parents, teachers, the business community, a variety of disciplinary and professional fields, recipients or beneficiaries of services, or others, as appropriate. (Up to 10 points)

(b) Quality of project personnel. (Up to 20 points)

(1) The Secretary considers the quality of the personnel who will carry out the proposed project.

(2) In determining the quality of project personnel, the Secretary considers the extent to which the applicant encourages applications for employment from persons who are members of groups that have traditionally been underrepresented based on race, color, national origin, gender, age, or disability. (Up to 10 points)

(3) In addition, the Secretary considers the qualifications, including relevant training and experience, of key project personnel. (Up to 10 points)

(c) Adequacy of resources. (Up to 15 points)

(1) The Secretary considers the adequacy of resources for the proposed project.

(2) In determining the adequacy of resources for the proposed project, the Secretary considers the following factors:

(i) The extent to which the technical assistance services to be provided by the proposed project involve the use of efficient strategies, including the use of technology, as appropriate, and the leveraging of non-project resources. (Up to 10 points)

(ii) The extent to which the budget is adequate to support the proposed project. (Up to 5 points)

2. Review and Selection Process: The Department reminds potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Risk Assessment and Special Conditions: Consistent with 2 CFR 200.206, before awarding grants under this program the Department conducts a review of the risks posed by applicants. Under 2 CFR 200.208, the Secretary may impose special conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) the Department must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, the Department notifies your U.S. Representative and U.S. Senators and sends you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For purposes of Department reporting under 34 CFR 75.110, we have established the following performance measures for the EAC program:

Measure 1: The percentage of clients reporting an increase in awareness or knowledge resulting from technical assistance provided.

Measure 2: The percentage of clients who report changed policies or practices related to providing students with a full opportunity for participation in all educational programs regardless of their sex, race, religion, and national origin.

Measure 3: The percentage of clients reporting an increase in capacity resulting from technical assistance provided.

Measure 4: The percentage of technical assistance requests received from organizations that were accepted during the performance period.

Measure 5: The percentage of clients willing to request additional technical assistance or refer another organization to an EAC for technical assistance during the performance period.

Measure 6: The percentage of clients who report that outcomes, as documented in memoranda of understanding with EACs, were met as a result of the technical assistance provided.

Note: Measure 6 is a new performance measure for this program. The Department removed the measure on the percentage of technical assistance requests received from new (not previously served by the EAC) organizations during the performance period.

All grantees will be expected to submit, as part of their annual and final performance reports, quantitative data documenting their progress with regard to these performance measures.

Project-Specific Performance Measures: An applicant may propose measures specific to that applicant's proposed project. If an applicant chooses to propose such project-specific measures, the application must provide the following information as directed under 34 CFR 75.110(b): How each proposed measure would accurately measure the performance of the project and how the proposed measure would be consistent with the performance measures established for this program.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth E. Ryder,
Deputy Assistant Secretary for Policy and Programs, Office of Elementary and Secondary Education.

[FR Doc. 2022-03208 Filed 2-14-22; 8:45 am]

BILLING CODE 4000-01-P